DEPARTMENT OF THE TREASURY

Internal Revenue Service

26 CFR Part 1

[REG-114734-16]

RIN 1545-BN51

United States Property Held by Controlled Foreign Corporations Through Partnerships With Special Allocations; Correction

AGENCY: Internal Revenue Service (IRS), Treasury.

ACTION: Correction to a notice of proposed rulemaking.

SUMMARY: This document contains corrections to a notice of proposed rulemaking (REG-114734-16) that was published in the Federal Register on Thursday, November 3, 2016 (81 FR 76542). The proposed regulations provide rules regarding the determination of the amount of the United States property treated as held by a controlled foreign corporation (CFC) through a partnership.

DATES: Written or electronic comments and request for a public hearing are still being accepted and must be received by February 1, 2017.

ADDRESSES: Send submissions to: CC:PA:LPD:PR (REG-114734-16), Room 5203, Internal Revenue Service, P.O. Box 7604, Ben Franklin Station, Washington, DC 20044. Submissions may be hand-delivered Monday through Friday between the hours of 8 a.m. and 4 p.m. to CC:PA:LPD:PR (REG-114734-16), Courier's Desk, Internal Revenue Service, 1111 Constitution Avenue NW., Washington, DC, or sent electronically via the Federal eRulemaking Portal at http://www.regulations.gov (IRS REG-114734-16).

FOR FURTHER INFORMATION CONTACT: Concerning the proposed regulations, Rose E. Jenkins, (202) 317-6934; concerning submissions of comments or request for a public hearing, Regina Johnson, (202) 317-6901 (not a toll-free number).

SUPPLEMENTARY INFORMATION:

Background

The notice of proposed rulemaking (REG-114734-16) that is the subject of this document is under sections 954 and 956 of the Internal Revenue Code.

Need for Correction

As published, the notice of proposed rulemaking (REG-114734-16) contains errors that may prove to be misleading and are in need of clarification.

Correction of Publication

Accordingly, the notice of proposed rulemaking, (REG-114734-16), that was the subject of FR Doc. 2016-26424, is corrected as follows:

1. On page 76543, first column, in the preamble, the sixth line from the top of the page, the language, “property that does not have a principal” is corrected to read “property that is respected for Federal income tax purposes under section 704(b) and the regulations thereunder and does not have a principal”.

§ 1.956-4 [Corrected]

2. On page 76543, third column, third line from the bottom of paragraph (b)(2)(ii), the language “allocation does not have a principal” is corrected to read “allocation will be respected for Federal income tax purposes under section 704(b) and the regulations thereunder and does not have a principal”.

Martin V. Franks,
Chief, Publications and Regulations Branch, Legal Processing Division, Associate Chief Counsel, (Procedure and Administration).

[FR Doc. 2016-31358 Filed 12-27-16; 8:45 am]

BILLING CODE 4830-01-P